ENVIRONMENTAL PROTECTION AGENCY

[FRL-7424-8]

Proposed Administrative Penalty Assessment and Opportunity To Comment

AGENCY: Environmental Protection Agency.

ACTION: Notice of proposed assessment of clean water act class II administrative penalty and opportunity to comment.

SUMMARY: EPA is providing notice of a proposed administrative penalty for alleged violations of the Clean Water Act. EPA is also providing notice of opportunity to comment on the proposed penalty.

EPA is authorized under section 309(g) of the Act, 33 U.S.C. 1319(g), to assess a civil penalty after providing the person subject to the penalty notice of the proposed penalty and the opportunity for a hearing, and after providing interested persons notice of the proposed penalty and a reasonable opportunity to comment on its issuance. Under section 309(g), any person who has violated the conditions of a National Pollutant Discharge Elimination System permit may be assessed a penalty in a “Class II” administrative penalty proceeding. Class II proceedings under section 309(g) are conducted in accordance with consolidated rules of practice governing the administrative assessment of civil penalties, 40 CFR part 22.

EPA is providing notice of the following Class II penalty proceeding:

In the Matter of Phelps Dodge Corp., Christmas Facility, Docket No. CWA-9-2002-0011; Complainant, Alexis Strauss, Director, Water Division (WTR-1), U.S. EPA, Region 9, 75 Hawthorne St., San Francisco, CA 94105; Respondent, Phelps Dodge Corp.; filed September 30, 2002; seeking a penalty of up to $137,500 for various discharges from an inactive copper mine and copper ore processing facility, known as the Christmas Facility, located near Winkelman, AZ, to Dripping Springs Wash, in violation of NPDES Permit No. AZ0020516, and for various violations of reporting requirements of that permit.

Procedures by which the public may comment on a proposed Class II penalty or participate in a Class II penalty proceeding are set forth in the consolidated rules. A commenter may present written comments for the record at any time prior to the close of the record.

FOR FURTHER INFORMATION CONTACT: Persons wishing to receive a copy of the consolidated rules, review the complaint or other documents filed in the proceedings, or comment or participate in the proceedings, should contact Danielle Carr, Regional Hearing Clerk, U.S. EPA, Region 9, 75 Hawthorne St., San Francisco, CA 94105, (415) 972-3871. Documents filed as part of the public record in the proceedings are available for inspection during business hours at the office of the Regional Hearing Clerk.

Dated: December 12, 2002.
Kathi Moore,
Chief, Clean Water Act Compliance Office, Water Division.

[FR Doc. 02-31980 Filed 12-18-02; 8:45 am]

BILLING CODE 6560-50-P